DEPARTMENT OF ENERGY

Federal Energy Regulatory Commission

[Project No. 14796-000

GreenGenStorage LLC; Notice of Preliminary Permit Application Accepted for Filing and Soliciting Comments, Motions To Intervene, and Competing Applications

On July 19, 2016, GreenGenStorage LLC filed an application for a preliminary permit, pursuant to section 4(f) of the Federal Power Act (FPA), proposing to study the feasibility of the Mokelumne Pumped Storage Project, to be located on the North Fork Mokelumne River, Bear River, and Cole Creek, in Amador and Calaveras County, California. The sole purpose of a preliminary permit, if issued, is to grant the permit holder priority to file a license application during the permit term. A preliminary permit does not authorize the permit holder to perform any land-disturbing activities or otherwise enter upon lands or waters owned by others without the owners' express permission.

The project concept envisions the construction of a pumped storage generating facility consisting of: (1) The existing Salt Springs Reservoir (part of PG&E's currently licensed Mokelumne River Project No. 137) as the lower pool; (2) an upper reservoir using either the existing Upper Bear or Lower Bear River reservoirs (also part of PG&E's Mokelumne River Project); (3) a 16,000-foot to 20,000-foot power tunnel connecting the upper reservoir, pump turbines, and the lower reservoir; (4) an underground powerhouse containing the pump-turbines and motor-generators; (5) an approximately 3,000-foot-long transmission line; and (6) appurtenant facilities. GreenGenStorage states that based on preliminary analyses, the project would have from one to three 380-megawatt generating units and an average annual electricity production of between 523 and 742 gigawatt-hours. GreenGenStorage plans to conduct studies to help further refine the range of suitable generation capabilities and other project characteristics.

Applicant Contact: Mr. Edward Cooper, Managing Director and Project Manager, GreenGenStorage LLC, P.O. Box 537, Summerland, CA 93067, (805) 450-2867 or edward@greengenstorage.com.

FERC Contact: John M. Mudre; phone: (202) 502-8902 or john.mudre@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14796-000.

More information about this project, including a copy of the application, can be viewed or printed on the “eLibrary” link of Commission's Web site at http://www.ferc.gov/docs-filing/elibrary.asp. Enter the docket number (P-14796) in the docket number field to access the document. For assistance, contact FERC Online Support.

Dated: October 4, 2016.
Kimberly D. Bose,
Secretary.

[FR Doc. 2016-24474 Filed 10-7-16; 8:45 am]

BILLING CODE 6717-01-P